DEPARTMENT OF THE INTERIOR

National Park Service

[NPS-WASO-NAGPRA-20982; PPWOCRADN0-PCU00RP14.R50000]

Notice of Inventory Completion: University of Oregon Museum of Natural and Cultural History, Eugene, OR

AGENCY: National Park Service, Interior.

ACTION: Notice.

SUMMARY: The University of Oregon Museum of Natural and Cultural History has completed an inventory of human remains and associated funerary objects, in consultation with the appropriate Indian tribes, and has determined that there is a cultural affiliation between the human remains and associated funerary objects and present-day Indian tribes. Lineal descendants or representatives of any Indian tribe not identified in this notice that wish to request transfer of control of these human remains and associated funerary objects should submit a written request to the University of Oregon Museum of Natural and Cultural History. If no additional requestors come forward, transfer of control of the human remains and associated funerary objects to the lineal descendants or Indian tribes stated in this notice may proceed.

DATES: Lineal descendants or representatives of any Indian tribe not identified in this notice that wish to request transfer of control of these human remains and associated funerary objects should submit a written request with information in support of the request to the University of Oregon Museum of Natural and Cultural History at the address in this notice by June 10, 2016.

ADDRESSES: Dr. Pamela Endzweig, Director of Collections, Museum of Natural and Cultural History, 1224 University of Oregon, Eugene, OR 97403-1224, telephone (541) 346-5120.

SUPPLEMENTARY INFORMATION: Notice is here given in accordance with the Native American Graves Protection and Repatriation Act (NAGPRA), 25 U.S.C. 3003, of the completion of an inventory of human remains and associated funerary objects under the control of the University of Oregon Museum of Natural and Cultural History, Eugene, OR. The human remains and associated funerary objects were removed from the Pistol River sites, 35CU61 and 35CU62, in Curry County, Oregon, at and near the aboriginal village site of Chetlessentun.

This notice is published as part of the National Park Service's administrative responsibilities under NAGPRA, 25 U.S.C. 3003(d)(3). The determinations in this notice are the sole responsibility of the museum, institution, or Federal agency that has control of the Native American human remains and funerary objects. The National Park Service is not responsible for the determinations in this notice.

Consultation

A detailed assessment of the human remains was made by University of Oregon Museum of Natural and Cultural History professional staff in consultation with representatives of the Confederated Tribes of Grand Ronde Community of Oregon; the Confederated Tribes of Siletz Indians of Oregon (previously listed as the Confederated Tribes of the Siletz Reservation); Confederated Tribes of the Coos, Lower Umpqua and Siuslaw Indians, Oregon; the Coquille Indian Tribe (previously listed as the Coquille Tribe of Oregon); Elk Valley Rancheria, California; and the Tolowa Dee-ni' Nation (previously listed as the Smith River Rancheria, California).

History and Description of the Remains

In 1961, human remains representing, at minimum, 15 individuals were removed from the Pistol River site, 35CU61, in Curry County, OR, a location of the aboriginal village site of Chetlessentun, during legally authorized excavations by archeologists from the University of Oregon. No known individuals were identified. The 21 associated funerary objects include three projectile points, four projectile point fragments, one drill fragment, one worked flake, one worked bone, one worked tine, one spoon bowl, 2 glass beads, one piece of glass, one piece of wood, and 5 chipped stone flakes.

At an unknown date, human remains representing, at minimum, one individual were removed from the Raymonds Dune site, 35CU62, about 0.4 km north of Chetlessentun, in Curry County, OR, by a private individual. The human remains were donated to the Museum and accessioned in 1947. No known individual was identified. No associated funerary objects are present.

In 1942, human remains representing, at minimum, one individual, were removed by the private individual referenced above from a location described in donor records as “Pistol River Dune,” and “on the slope 75′ to 100′ east of the central group of shell heaps.” No further information is present. The location is assumed to be in the vicinity of the above two sites. The human remains were donated to the Museum and accessioned in 1947. No known individual was identified. No associated funerary objects are present.

Based on archeological context, the 17 individuals described above are determined to be Native American. Historical documents, ethnographic sources, and oral history indicate occupation of Chetlessentun (35CU61) by the Tututni people until 1856. Burial-associated artifacts and radiocarbon dates from archeological associations support a late pre-contact and early post-contact age of the burials from 35CU61. Site 35CU62 was occupied about 3200 years ago, based on radiocarbon-dated house remains and associated projectile points styles.

Based on provenience, the Native American human remains are reasonably believed to be affiliated with the Coquille Indian Tribe and the Confederated Tribes of Siletz Indians, Oregon.

Determinations made by the University of Oregon Museum of Natural and Cultural History:

Officials of the University of Oregon Museum of Natural and Cultural History have determined that:

• Pursuant to 25 U.S.C. 3001(9), the human remains described in this notice represent the physical remains of 17 individuals of Native American ancestry.

• Pursuant to 25 U.S.C. 3001(3)(A), the 21 objects described in this notice are reasonably believed to have been placed with or near individual human remains at the time of death or later as part of the death rite or ceremony.

• Pursuant to 25 U.S.C. 3001(2), there is a relationship of shared group identity that can be reasonably traced between the Native American human remains and the Coquille Indian Tribe and the Confederated Tribes of Siletz Indians, Oregon.

Additional Requestors and Disposition

Lineal descendants or representatives of any Indian tribe not identified in this notice that wish to request transfer of control of these human remains should submit a written request with information in support of the request to Dr. Pamela Endzweig, Director of Collections, University of Oregon Museum of Natural and Cultural History, 1224 University of Oregon, Eugene, OR 97403-1224, telephone (541) 346-5120, by June 10, 2016. After that date, if no additional requestors have come forward, transfer of control of the human remains and associated funerary objects to the Coquille Indian Tribe and the Confederated Tribes of Siletz Indians, Oregon may proceed.

The University of Oregon Museum of Natural and Cultural History is responsible for notifying the Confederated Tribes of Grand Ronde Community of Oregon; the Confederated Tribes of Siletz Indians of Oregon (previously listed as the Confederated Tribes of the Siletz Reservation); Confederated Tribes of the Coos, Lower Umpqua and Siuslaw Indians, Oregon; the Coquille Indian Tribe (previously listed as the Coquille Tribe of Oregon); Elk Valley Rancheria, California; and the Tolowa Dee-ni' Nation (previously listed as the Smith River Rancheria, California) that this notice has been published.

Dated: April 28, 2016.
Melanie O'Brien,
Manager, National NAGPRA Program.

[FR Doc. 2016-11089 Filed 5-10-16; 8:45 am]

BILLING CODE 4312-50-P